ENVIRONMENTAL PROTECTION AGENCY

40 CFR Part 52

[EPA-R03-OAR-2012-0370; FRL-9738-3]

Approval and Promulgation of Air Quality Implementation Plans; Pennsylvania; Pittsburgh-Beaver Valley Nonattainment Area Determinations of Attainment of the 1997 Annual Fine Particulate Standard

AGENCY: Environmental Protection Agency (EPA).

ACTION: Final rule.

SUMMARY: EPA is making two determinations regarding the Pittsburgh-Beaver Valley fine particulate matter (PM2.5) nonattainment area (hereafter referred to as “the Pittsburgh Area” or “the Area”). First, EPA determines that the Area has attained the 1997 annual PM2.5 National Ambient Air Quality Standard (NAAQS). This determination of attainment is based upon quality-assured, quality-controlled and certified ambient air monitoring data for the 2008-2010 and 2009-2011 monitoring periods, showing that the Pittsburgh Area has monitored attainment of the 1997 annual PM2.5 NAAQS. In accordance with the EPA's applicable PM2.5 implementation rule, this determination of attainment suspends the requirements for the Area to submit an attainment demonstration and associated reasonably available control measures (RACM), a reasonable further progress (RFP) plan, contingency measures, and other planning State Implementation Plan (SIP) revisions related to the attainment of the standard for so long as the Area continues to attain the 1997 annual PM2.5 NAAQS. EPA also determines, based on quality-assured, quality-controlled, and certified monitoring data for the 2007-2009 monitoring period, that the Area attained the 1997 annual PM2.5 NAAQS by its applicable attainment date of April 5, 2010. These actions are being taken under the Clean Air Act (CAA).

DATES: This final rule is effective on October 12, 2012.

ADDRESSES: EPA has established a docket for this action under Docket ID Number EPA-R03-OAR-2012-0370. All documents in the docket are listed in the www.regulations.gov Web site. Although listed in the electronic docket, some information is not publicly available, i.e., confidential business information (CBI) or other information whose disclosure is restricted by statute. Certain other material, such as copyrighted material, is not placed on the Internet and will be publicly available only in hard copy form. Publicly available docket materials are available either electronically through www.regulations.gov or in hard copy for public inspection during normal business hours at the Air Protection Division, U.S. Environmental Protection Agency, Region III, 1650 Arch Street, Philadelphia, Pennsylvania 19103.

FOR FURTHER INFORMATION CONTACT: Emlyn Vélez-Rosa, (215) 814-2038, or by email at velez-rosa.emlyn@epa.gov.

SUPPLEMENTARY INFORMATION: Throughout this document, whenever “we,” “us,” or “our” is used, we mean EPA. This supplementary information section is arranged as follows:

I. Background

II. Summary of Actions

III. Final Action

IV. Effective Date

V. Statutory and Executive Order Reviews

I. Background

On July 16, 1997, EPA established an annual PM2.5 NAAQS at 15.0 micrograms per cubic meter (μg/m³) (hereafter referred to as “the 1997 annual PM2.5 NAAQS” or “the annual PM2.5 standard”), based on a 3-year average of annual mean PM2.5 concentrations (62 FR 38652, July 18, 1997). On January 5, 2005, EPA published its air quality designations and classifications for the 1997 annual PM2.5 NAAQS based upon air quality monitoring data for calendar years 2001-2003 (70 FR 944). These designations, effective on April 5, 2005, included the Pittsburgh Area as a nonattainment area for the 1997 annual PM2.5 NAAQS. On March 29, 2007, EPA issued a detailed 1997 PM2.5 implementation rule, codified at 40 CFR part 51, subpart Z, in which EPA provided guidance for state and tribal plans to implement the 1997 annual PM2.5 NAAQS (72 FR 20586, April 25, 2007).

On June 11, 2012 (77 FR 34297), EPA published a notice of proposed rulemaking (NPR) for the Commonwealth of Pennsylvania, proposing two determinations of attainment of the 1997 annual PM2.5 NAAQS for the Pittsburgh Area. First, EPA proposed to determine that the Pittsburgh Area has attained the 1997 annual PM2.5 NAAQS, based upon quality-assured, quality-controlled, and certified ambient air monitoring data for the 2008-2010 period and preliminary data for 2009-2011. The 2011 data have now been quality-assured and certified, and show that the area continues to attain based on certified data for 2009-2011. See Table 1. In accordance with 40 CFR 51.1004(c), EPA's final determination of attainment suspends the requirements for the Pittsburgh Area to submit an attainment demonstration and RACM, a RFP plan, contingency measures, and other planning SIP revisions related to the attainment of the 1997 annual PM2.5 NAAQS for so long as the Area continues to attain the 1997 annual PM2.5 NAAQS. In the NPR, EPA also proposed to determine that the Area attained the 1997 annual PM2.5 NAAQS by its applicable attainment date of April 5, 2010, based on quality-assured, quality-controlled, and certified monitoring data for the 2007-2009 monitoring period.

II. Summary of Actions

EPA has previously determined that the PM2.5 monitoring network for the Pittsburgh Area is adequate.¹ EPA found that the number of PM2.5 monitors in the Area meets the minimum regulatory requirements given in 40 CFR part 58, appendix D, and that monitoring is in accordance with Pennsylvania's most recent annual monitoring network plan approved by EPA, as required by 40 CFR 58.10.

¹ The Commonwealth of Pennsylvania's August 4, 2011 annual ambient monitoring network plan was approved by EPA in a December 6, 2011 letter from Shawn M. Garvin, Regional Administrator of EPA Region III, to Michael L. Krancer, Secretary of the Pennsylvania Department of Environmental Protection.

In this final rulemaking, EPA is determining that the Pittsburgh Area has attained the 1997 annual PM2.5 NAAQS, based on the most recent three years of quality-assured, quality-controlled, and certified data, and is also determining that the Area attained the 1997 annual PM2.5 NAAQS by its applicable attainment date of April 5, 2010. In accordance with the requirements of 40 CFR part 50, EPA has reviewed the quality-assured, quality-controlled, certified PM2.5 data recorded in the EPA's Air Quality System (AQS) database for the Pittsburgh Area during 2007-2009, 2008-2010, and 2009-2011 monitoring periods.

Monitoring data for 2011, which was recently quality-assured, quality-controlled, and certified, show that the area continues to attain based on certified data for 2009-2011. Table 1 below shows the PM2.5 annual design values for the Pittsburgh Area during the 2009-2011 period. The PM2.5 annual design value for the Pittsburgh Area during 2009-2011 is 14.7 μg/m³, based on the Orchard monitoring site, located in Allegheny County. The PM2.5 monitoring data for 2007-2009 and 2008-2010 were set forth in EPA's June 11, 2012 NPR (77 FR 34297).

Table 1—Pittsburgh Area 2009-2011 Annual PM 2.5 Data
[In μg/m³]
County | Site ID | Site name | Annual mean: 2009 | Annual mean: 2010 | Annual mean: 2011 | 2009-2011 Design value | Completeness status¹
Allegheny | 42-003-0002 | Orchard |  | 16.3 | 13.1 | 14.7 | Incomplete ²
Allegheny | 42-003-0008 | Lawrence | 11.6 | 12.2 | 11.1 | 11.6 | Complete
Allegheny | 42-003-0067 | South Fayette | 10.8 | 11.7 | 10.6 | 11.0 | Complete
Allegheny | 42-003-0093 | North Park | 9.6 | 10.5 | 9.0 | 9.7 | Max. Quarter
Allegheny | 42-003-0095 | Moon | 9.4 | 11.5 |  | 10.5 | Incomplete ²
Allegheny | 42-003-1008 | Harrison | 12.7 | 13.0 | 11.6 | 12.4 | Max. Quarter
Allegheny | 42-003-1301 | N. Braddock | 12.1 | 13.7 | 12.3 | 12.7 | Collocated
Armstrong | 42-005-0001 | Kittaning | 11.0 | 13.2 | 12.1 | 12.1 | Incomplete ²
Beaver | 42-007-0014 | Beaver Falls | 13.0 | 12.5 | 11.7 | 12.4 | Complete
Washington | 42-125-0005 | Charleroi | 12.6 | 13.2 | 12.0 | 12.6 | Max. Quarter
Washington | 42-125-0200 | Washington | 11.1 | 12.1 | 10.8 | 11.3 | Complete
Washington | 42-125-5001 | Florence | 12.2 | 8.9 | 5.9 | 9.0 | Complete
Westmoreland | 42-129-0008 | Greensburg | 13.5 | 14.0 | 13.7 | 13.7 | Statistical
¹ This column indicates if the design value for the monitor is: valid and complete (“Complete”) or incomplete (“Incomplete”). It also indicates which data substitution method, if any, was used to deem an incomplete design value valid and “Complete”: “Max. Quarter” denotes the maximum quarter data substitution test; “Collocated” denotes the collocated data substitution test; “Statistical” denotes that EPA's statistical procedure has been applied to address the missing data. Note that these techniques are discretionary.
² These monitors did not collect sufficient data during 2009-2011 due to shut-downs or startups.

Several monitors did not meet the completeness requirement for one or more quarters during 2009-2011. EPA addressed the missing data of each of the monitors in order to determine if the monitors were attaining the 1997 annual PM2.5 NAAQS, by applying one of these methods: Maximum quarter data substitution test, collocated data substitution test, and EPA's statistical method. Additional information about the monitoring network and air quality data used in this determination can be found in the Technical Support Document for this final rulemaking notice (FRN) which is available online at www.regulations.gov, Docket number EPA-R03-OAR-2012-0370.

The quality-assured, quality-controlled, certified data for 2008-2010 and 2009-2011 show that the Pittsburgh Area has monitored attainment of the 1997 annual PM2.5 NAAQS. Additionally, preliminary PM2.5 data available for 2012 is consistent with continued attainment of the 1997 annual PM2.5 NAAQS in the Pittsburgh Area. EPA's evaluation of the quality-assured, quality-controlled, certified monitoring data from 2007-2009 show that the Pittsburgh Area attained the 1997 annual PM2.5 NAAQS by its applicable attainment date.

No public comments were submitted in response to the NPR. Additional information about the monitoring network and air quality data used in this determination is available in the Technical Support Documents for the NPR and the FRN. Relevant support documents for this action are available online at www.regulations.gov, Docket number EPA-R03-OAR-2012-0370.

III. Final Action

EPA is making two final determinations. First, EPA determines that the Area has attained the 1997 annual PM2.5 NAAQS, based upon quality-assured and certified ambient air monitoring data for the 2008-2010 and 2009-2011 periods. Pursuant to 40 CFR 51.1004(c), this determination of attainment will suspend the requirements for the Area to submit an attainment demonstration and associated RACM, RFP plan, contingency measures, and other planning SIP revisions related to the attainment of the standard, for so long as the Area continues to attain the 1997 annual PM2.5 NAAQS. Second, EPA determines that the Area attained the 1997 annual PM2.5 NAAQS by its applicable attainment date of April 5, 2010, based on quality-assured, quality-controlled and certified monitoring data for the 2007-2009 monitoring period. This determination of attainment fulfills EPA's obligation pursuant to section 179(c)(1) of the CAA.

Finalizing these determinations or either of them does not constitute a redesignation of the Pittsburgh Area to attainment for the 1997 annual PM2.5 NAAQS under CAA section 107(d)(3). Neither determination of attainment involves approving a maintenance plan for the Pittsburgh Area, nor determines that the Area has met all the requirements for redesignation under the CAA, including that attainment be due to permanent and enforceable emission reductions.² Therefore, the designation status of the Pittsburgh Area will remain nonattainment for the 1997 annual PM2.5 NAAQS until such time as EPA takes final rulemaking action to determine that such portions meet the CAA requirements for redesignation to attainment.

² The monitoring data for the 2008-2010 and 2009-2011 monitoring periods that are relied on in this notice may be impacted by reductions associated with the Clean Air Interstate Rule (CAIR), which was remanded to EPA in 2008. North Carolina v. EPA, 531 F.3d 896, as modified on reh'g, 550 F.3d 1176 (DC Cir. 2008). Nonetheless, because these determinations address only whether the monitoring data show attainment, at this time EPA need not address whether such attainment was due to the remanded CAIR.

IV. Effective Date

EPA finds that there is good cause for this approval to become effective on the date of publication because this action suspends the requirements for the Pittsburgh Area to submit an attainment demonstration and associated RACM, RFP plans, contingency measures and other SIPs related to attainment of the 1997 annual PM2.5 NAAQS required by CAA Section 172(c). See 40 CFR 51.1004(c). The expedited effective date for this action is authorized under both 5 U.S.C. 553(d)(1), which provides that rule actions may become effective less than 30 days after publication if the rule “grants or recognizes an exemption or relieves a restriction” and section 5 U.S.C. 553(d)(3), which allows an effective date less than 30 days after publication “as otherwise provided by the agency for good cause found and published with the rule.” The relief from these SIP planning obligations in CAA Section 172(c) is sufficient reason to allow an expedited effective date of this rule under 5 U.S.C. 553(d)(1) and (3).

V. Statutory and Executive Order Reviews

A. General Requirements

This action, which makes determinations of attainment based on air quality, will result in the suspension of certain Federal requirements and/or will not impose any additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by December 11, 2012. Filing a petition for reconsideration by the Administrator of this final rule does not affect the finality of this action for the purposes of judicial review nor does it extend the time within which a petition for judicial review may be filed, and shall not postpone the effectiveness of such rule or action. This action, in which EPA determines that the Pittsburgh Area has attained the 1997 annual PM2.5 NAAQS and attained the 1997 annual PM2.5 NAAQS by its attainment date, may not be challenged later in proceedings to enforce its requirements. (See section 307(b)(2).)

List of Subjects in 40 CFR part 52

Environmental protection, Air pollution control, Incorporation by reference, Particulate matter, Reporting and recordkeeping requirements.

Shawn M. Garvin,
Regional Administrator, Region III.

40 CFR part 52 is amended as follows:

PART 52—APPROVAL AND PROMULGATION OF IMPLEMENTATION PLANS

1. The authority citation for part 52 continues to read as follows:

Authority: 42 U.S.C. 7401 et seq.

Subpart NN—Pennsylvania

2. Section 52.2056 is amended by adding paragraph (h) to read as follows:

§ 52.2056 Determinations of Attainment.

* * * * *

(h) Based upon EPA's review of the air quality data for the 3-year period 2007 to 2009, EPA determined that the Pittsburgh-Beaver Valley fine particle (PM2.5) nonattainment area attained the 1997 annual PM2.5 National Ambient Air Quality Standard (NAAQS) by the applicable attainment date of April 5, 2010. Therefore, EPA has met the requirement pursuant to CAA section 179(c) to determine, based on the area's air quality as of the attainment date, whether the area attained the standard. EPA also determined that the Pittsburgh-Beaver Valley PM2.5 nonattainment area is not subject to the consequences of failing to attain pursuant to section 179(d).

3. Section 52.2059 is amended by adding paragraph (g) to read as follows:

§ 52.2059 Control strategy: Particulate matter.

* * * * *

(g) Determination of Attainment. EPA has determined, as of October 12, 2012, that based on 2008 to 2010 and 2009 to 2011 ambient air quality data, the Pittsburgh-Beaver Valley fine particle (PM2.5) nonattainment area has attained the 1997 annual PM2.5 national ambient air quality standards (NAAQS). This determination, in accordance with 40 CFR 52.1004(c), suspends the requirements for the Pittsburgh-Beaver Valley PM2.5 nonattainment area to submit an attainment demonstration, associated reasonably available control measures, a reasonable further progress plan, contingency measures, and other planning SIPs related to attainment of the standard for as long as this area continues to meet the 1997 annual PM2.5 NAAQS.

[FR Doc. 2012-24782 Filed 10-11-12; 8:45 am]

BILLING CODE 6560-50-P